DEPARTMENT OF ENERGY

Federal Energy Regulatory Commission

18 CFR Part 11

[Docket No. RM11-6-000]

Annual Update to Fee Schedule for the Use of Government Lands by Hydropower Licensees

AGENCY: Federal Energy Regulatory Commission.

ACTION: Final rule.

SUMMARY: In accordance with the Commission's regulations, the Commission, by its designee, the Executive Director, issues this notice of the annual update to the fee schedule, which lists per-acre rental fees by county (or other geographic area) for use of government lands by hydropower licensees.

DATES: This rule is effective February 10, 2021. The updates to appendix A to part 11, with the fee schedule of per-acre rental fees by county (or other geographic area), are from October 1, 2020, through September 30, 2021 (Fiscal Year 2021).

FOR FURTHER INFORMATION CONTACT: Raven A. Rodriguez, Financial Management Division, Office of the Executive Director, Federal Energy Regulatory Commission, 888 First Street NE, Washington, DC 20426, (202) 502-6276, Raven.Rodriguez@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This notice updates the fee schedule in Appendix A to Part 11 for fiscal year 2021 (October 1, 2020, through September 30, 2021).

¹ Annual Charges for the Use of Government Lands, Order No. 774, 78 FR 5256 (January 25, 2013), FERC Stats. & Regs. ¶ 31,341 (2013).

² 18 CFR part 11 (2018).

Effective Date

This final rule is effective February 10, 2021. The provisions of 5 U.S.C. 804, regarding Congressional review of final rules, do not apply to this final rule because the rule concerns agency procedure and practice and will not substantially affect the rights or obligations of non-agency parties. This final rule merely updates the fee schedule published in the Code of Federal Regulations to reflect scheduled adjustments, as provided for in § 11.2 of the Commission's regulations.

List of Subjects in 18 CFR Part 11

Public lands.

By the Executive Director.
Issued: February 2, 2021.
Anton C. Porter,
Executive Director, Office of the Executive Director.

In consideration of the foregoing, the Commission amends part 11, chapter I, title 18, Code of Federal Regulations, as follows.

PART 11—[AMENDED]

1. The authority citation for part 11 is revised to read as follows:

Authority: 16 U.S.C. 792-828c; 42 U.S.C. 7101-7352.

2. Appendix A to Part 11 is revised to read as follows:

Appendix A to Part 11—Fee Schedule for FY 2021
State | County | Fee/acre/yr
Alabama | Autauga | $58.11
| Baldwin | 153.43
| Barbour | 58.84
| Bibb | 73.97
| Blount | 94.92
| Bullock | 56.45
| Butler | 64.67
| Calhoun | 111.89
| Chambers | 66.22
| Cherokee | 83.46
| Chilton | 92.99
| Choctaw | 54.02
| Clarke | 60.06
| Clay | 73.97
| Cleburne | 91.18
| Coffee | 69.38
| Colbert | 70.23
| Conecuh | 56.45
| Coosa | 60.40
| Covington | 70.73
| Crenshaw | 65.72
| Cullman | 104.80
| Dale | 79.29
| Dallas | 49.41
| DeKalb | 103.69
| Elmore | 78.95
| Escambia | 64.77
| Etowah | 101.08
| Fayette | 58.13
| Franklin | 64.59
| Geneva | 65.25
| Greene | 51.41
| Hale | 59.55
| Henry | 67.99
| Houston | 93.10
| Jackson | 80.16
| Jefferson | 116.29
| Lamar | 48.99
| Lauderdale | 95.55
| Lawrence | 100.03
| Lee | 109.36
| Limestone | 108.88
| Lowndes | 50.02
| Macon | 61.85
| Madison | 139.82
| Marengo | 52.89
| Marion | 61.64
| Marshall | 116.76
| Mobile | 124.85
| Monroe | 63.14
| Montgomery | 70.10
| Morgan | 116.03
| Perry | 58.18
| Pickens | 66.62
| Pike | 69.04
| Randolph | 83.19
| Russell | 66.96
| Shelby | 104.77
| St. Clair | 112.71
| Sumter | 49.33
| Talladega | 87.20
| Tallapoosa | 75.23
| Tuscaloosa | 88.65
| Walker | 79.56
| Washington | 53.39
| Wilcox | 47.91
| Winston | 72.86
Alaska | Aleutian Islands | 0.88
| Statewide | 47.24
Arizona | Apache | 4.37
| Cochise | 31.88
| Coconino | 3.37
| Gila | 6.18
| Graham | 10.30
| Greenlee | 24.79
| La Paz | 32.05
| Maricopa | 146.85
| Mohave | 13.34
| Navajo | 3.51
| Pima | 8.38
| Pinal | 43.95
| Santa Cruz | 31.70
| Yavapai | 26.25
| Yuma | 146.83
Arkansas | Arkansas | 61.89
| Ashley | 56.84
| Baxter | 52.83
| Benton | 127.23
| Boone | 51.77
| Bradley | 64.56
| Calhoun | 50.89
| Carroll | 54.01
| Chicot | 58.35
| Clark | 47.55
| Clay | 84.65
| Cleburne | 57.71
| Cleveland | 83.12
| Columbia | 45.63
| Conway | 49.91
| Craighead | 90.60
| Crawford | 60.26
| Crittenden | 75.64
| Cross | 66.19
| Dallas | 38.28
| Desha | 63.91
| Drew | 56.82
| Faulkner | 75.42
| Franklin | 50.36
| Fulton | 36.67
| Garland | 102.64
| Grant | 70.94
| Greene | 83.26
| Hempstead | 49.18
| Hot Spring | 54.66
| Howard | 56.08
| Independence | 45.15
| Izard | 40.21
| Jackson | 66.17
| Jefferson | 64.17
| Johnson | 54.84
| Lafayette | 50.03
| Lawrence | 70.43
| Lee | 62.32
| Lincoln | 60.53
| Little River | 47.41
| Logan | 49.08
| Lonoke | 72.34
| Madison | 61.54
| Marion | 47.88
| Miller | 50.63
| Mississippi | 67.49
| Monroe | 55.45
| Montgomery | 51.05
| Nevada | 46.47
| Newton | 47.85
| Ouachita | 43.82
| Perry | 54.17
| Phillips | 62.58
| Pike | 51.22
| Poinsett | 75.05
| Polk | 58.12
| Pope | 63.05
| Prairie | 57.35
| Pulaski | 77.17
| Randolph | 57.67
| Saline | 67.25
| Scott | 48.20
| Searcy | 36.98
| Sebastian | 65.66
| Sevier | 52.40
| Sharp | 41.87
| St. Francis | 61.04
| Stone | 42.48
| Union | 54.31
| Van Buren | 54.09
| Washington | 100.80
| White | 54.58
| Woodruff | 63.91
| Yell | 52.93
California | Alameda | 44.43
| Alpine | 28.59
| Amador | 27.85
| Butte | 75.28
| Calaveras | 22.22
| Colusa | 49.81
| Contra Costa | 43.27
| Del Norte | 51.98
| El Dorado | 62.06
| Fresno | 71.01
| Glenn | 55.73
| Humboldt | 19.32
| Imperial | 69.61
| Inyo | 3.88
| Kern | 46.14
| Kings | 67.61
| Lake | 40.98
| Lassen | 13.37
| Los Angeles | 116.16
| Madera | 68.51
| Marin | 36.65
| Mariposa | 12.90
| Mendocino | 23.94
| Merced | 81.81
| Modoc | 12.23
| Mono | 12.01
| Monterey | 46.06
| Napa | 276.04
| Nevada | 46.42
| Orange | 119.37
| Placer | 41.98
| Plumas | 14.37
| Riverside | 113.43
| Sacramento | 62.82
| San Benito | 22.31
| San Bernardino | 124.39
| San Diego | 145.10
| San Francisco | 486.14
| San Joaquin | 93.90
| San Luis Obispo | 47.18
| San Mateo | 61.07
| Santa Barbara | 64.90
| Santa Clara | 50.86
| Santa Cruz | 133.49
| Shasta | 18.25
| Sierra | 10.64
| Siskiyou | 19.17
| Solano | 57.19
| Sonoma | 138.70
| Stanislaus | 97.65
| Sutter | 59.55
| Tehama | 26.96
| Trinity | 12.01
| Tulare | 73.31
| Tuolumne | 23.23
| Ventura | 159.41
| Yolo | 60.66
| Yuba | 51.40
Colorado | Adams | 26.93
| Alamosa | 35.40
| Arapahoe | 37.74
| Archuleta | 51.83
| Baca | 13.09
| Bent | 11.52
| Boulder | 209.92
| Broomfield | 91.29
| Chaffee | 84.74
| Cheyenne | 13.99
| Clear Creek | 52.72
| Conejos | 28.17
| Costilla | 20.29
| Crowley | 8.50
| Custer | 32.44
| Delta | 80.37
| Denver | 1,064.15
| Dolores | 29.77
| Douglas | 112.66
| Eagle | 55.25
| El Paso | 23.49
| Elbert | 25.48
| Fremont | 39.01
| Garfield | 40.06
| Gilpin | 70.57
| Grand | 36.72
| Gunnison | 42.86
| Hinsdale | 30.74
| Huerfano | 16.06
| Jackson | 22.09
| Jefferson | 128.83
| Kiowa | 12.59
| Kit Carson | 20.36
| La Plata | 37.72
| Lake | 34.32
| Larimer | 77.43
| Las Animas | 10.05
| Lincoln | 11.76
| Logan | 19.84
| Mesa | 92.23
| Mineral | 57.46
| Moffat | 13.34
| Montezuma | 20.22
| Montrose | 51.65
| Morgan | 28.97
| Otero | 12.52
| Ouray | 51.00
| Park | 28.05
| Phillips | 28.25
| Pitkin | 127.19
| Prowers | 13.46
| Pueblo | 17.17
| Rio Blanco | 22.93
| Rio Grande | 52.15
| Routt | 52.45
| Saguache | 31.69
| San Juan | 26.85
| San Miguel | 24.88
| Sedgwick | 22.59
| Summit | 70.55
| Teller | 33.78
| Washington | 18.33
| Weld | 43.18
| Yuma | 27.27
Connecticut | Fairfield | 272.73
| Hartford | 407.45
| Litchfield | 286.07
| Middlesex | 376.75
| New Haven | 593.52
| New London | 289.73
| Tolland | 245.16
| Windham | 238.82
Delaware | Kent | 203.48
| New Castle | 243.96
| Sussex | 217.61
Florida | Alachua | 150.03
| Baker | 87.89
| Bay | 39.29
| Bradford | 91.51
| Brevard | 96.30
| Broward | 634.84
| Calhoun | 41.26
| Charlotte | 137.47
| Citrus | 151.89
| Clay | 109.69
| Collier | 90.97
| Columbia | 83.54
| Dade | 717.41
| DeSoto | 95.94
| Dixie | 71.30
| Duval | 144.11
| Escambia | 118.88
| Flagler | 106.61
| Franklin | 113.04
| Gadsden | 81.53
| Gilchrist | 101.93
| Glades | 82.53
| Gulf | 27.49
| Hamilton | 74.04
| Hardee | 102.24
| Hendry | 93.87
| Hernando | 200.91
| Highlands | 74.82
| Hillsborough | 223.71
| Holmes | 63.87
| Indian River | 110.05
| Jackson | 70.76
| Jefferson | 66.43
| Lafayette | 57.93
| Lake | 151.95
| Lee | 233.82
| Leon | 81.72
| Levy | 88.27
| Liberty | 75.02
| Madison | 67.56
| Manatee | 149.11
| Marion | 212.90
| Martin | 84.21
| Monroe | 113.04
| Nassau | 71.72
| Okaloosa | 91.24
| Okeechobee | 80.90
| Orange | 161.53
| Osceola | 74.33
| Palm Beach | 160.51
| Pasco | 137.18
| Pinellas | 1,100.80
| Polk | 116.16
| Putnam | 76.19
| Santa Rosa | 102.72
| Sarasota | 176.14
| Seminole | 158.44
| St. Johns | 162.96
| St. Lucie | 114.48
| Sumter | 115.42
| Suwannee | 84.63
| Taylor | 69.92
| Union | 71.30
| Volusia | 197.48
| Wakulla | 65.51
| Walton | 72.24
| Washington | 73.18
Georgia | Appling | 79.92
| Atkinson | 71.43
| Bacon | 101.24
| Baker | 54.66
| Baldwin | 53.25
| Banks | 132.36
| Barrow | 161.29
| Bartow | 148.20
| Ben Hill | 60.73
| Berrien | 76.94
| Bibb | 98.54
| Bleckley | 63.46
| Brantley | 71.80
| Brooks | 85.99
| Bryan | 75.69
| Bulloch | 70.45
| Burke | 69.93
| Butts | 95.86
| Calhoun | 74.14
| Camden | 70.47
| Candler | 77.73
| Carroll | 117.72
| Catoosa | 135.36
| Charlton | 59.70
| Chatham | 124.91
| Chattahoochee | 72.76
| Chattooga | 87.12
| Cherokee | 213.38
| Clarke | 190.26
| Clay | 58.22
| Clayton | 205.51
| Clinch | 97.97
| Cobb | 281.03
| Coffee | 74.19
| Colquitt | 81.37
| Columbia | 109.51
| Cook | 74.73
| Coweta | 118.68
| Crawford | 99.10
| Crisp | 75.39
| Dade | 97.92
| Dawson | 171.76
| Decatur | 80.19
| DeKalb | 1,154.43
| Dodge | 63.95
| Dooly | 71.87
| Dougherty | 95.17
| Douglas | 164.68
| Early | 63.19
| Echols | 68.65
| Effingham | 79.94
| Elbert | 96.55
| Emanuel | 51.43
| Evans | 66.39
| Fannin | 145.17
| Fayette | 133.84
| Floyd | 119.69
| Forsyth | 193.80
| Franklin | 141.39
| Fulton | 468.90
| Gilmer | 188.34
| Glascock | 39.16
| Glynn | 379.07
| Gordon | 160.99
| Grady | 92.49
| Greene | 88.21
| Gwinnett | 229.72
| Habersham | 176.12
| Hall | 229.54
| Hancock | 51.46
| Haralson | 116.84
| Harris | 106.31
| Hart | 138.29
| Heard | 88.82
| Henry | 184.04
| Houston | 98.91
| Irwin | 79.92
| Jackson | 156.69
| Jasper | 85.62
| Jeff Davis | 61.62
| Jefferson | 63.71
| Jenkins | 64.45
| Johnson | 51.48
| Jones | 69.02
| Lamar | 86.12
| Lanier | 74.53
| Laurens | 51.56
| Lee | 83.24
| Liberty | 130.10
| Lincoln | 76.87
| Long | 82.67
| Lowndes | 134.08
| Lumpkin | 145.74
| Macon | 79.13
| Madison | 139.32
| Marion | 58.42
| McDuffie | 73.64
| McIntosh | 58.35
| Meriwether | 80.24
| Miller | 79.75
| Mitchell | 91.06
| Monroe | 80.66
| Montgomery | 63.56
| Morgan | 114.94
| Murray | 124.66
| Muscogee | 123.06
| Newton | 110.07
| Oconee | 177.96
| Oglethorpe | 107.07
| Paulding | 142.20
| Peach | 141.83
| Pickens | 209.79
| Pierce | 70.77
| Pike | 120.45
| Polk | 88.94
| Pulaski | 65.70
| Putnam | 103.46
| Quitman | 56.75
| Rabun | 202.68
| Randolph | 69.66
| Richmond | 90.52
| Rockdale | 173.66
| Schley | 70.05
| Screven | 54.11
| Seminole | 77.26
| Spalding | 125.96
| Stephens | 142.03
| Stewart | 50.89
| Sumter | 70.32
| Talbot | 67.27
| Taliaferro | 80.98
| Tattnall | 95.29
| Taylor | 51.14
| Telfair | 54.36
| Terrell | 68.95
| Thomas | 89.53
| Tift | 78.07
| Toombs | 68.38
| Towns | 135.21
| Treutlen | 46.32
| Troup | 79.84
| Turner | 75.86
| Twiggs | 59.45
| Union | 141.95
| Upson | 97.26
| Walker | 104.27
| Walton | 139.32
| Ware | 63.09
| Warren | 73.35
| Washington | 51.80
| Wayne | 51.16
| Webster | 60.07
| Wheeler | 44.99
| White | 199.88
| Whitfield | 152.14
| Wilcox | 64.15
| Wilkes | 84.79
| Wilkinson | 50.42
| Worth | 73.87
Hawaii | Hawaii | 146.97
| Honolulu | 525.54
| Kauai | 190.38
| Maui | 243.03
Idaho | Ada | 120.65
| Adams | 19.66
| Bannock | 24.77
| Bear Lake | 18.25
| Benewah | 24.56
| Bingham | 32.27
| Blaine | 32.09
| Boise | 18.18
| Bonner | 63.88
| Bonneville | 36.98
| Boundary | 60.69
| Butte | 26.04
| Camas | 17.01
| Canyon | 104.53
| Caribou | 23.54
| Cassia | 40.47
| Clark | 22.26
| Clearwater | 31.32
| Custer | 34.58
| Elmore | 31.61
| Franklin | 29.49
| Fremont | 35.10
| Gem | 35.71
| Gooding | 76.32
| Idaho | 20.85
| Jefferson | 44.68
| Jerome | 76.61
| Kootenai | 70.09
| Latah | 32.25
| Lemhi | 32.04
| Lewis | 24.91
| Lincoln | 46.31
| Madison | 52.80
| Minidoka | 57.58
| Nez Perce | 26.37
| Oneida | 21.03
| Owyhee | 20.65
| Payette | 44.46
| Power | 31.29
| Shoshone | 85.18
| Teton | 50.16
| Twin Falls | 56.31
| Valley | 32.91
| Washington | 17.18
Illinois | Adams | 174.17
| Alexander | 91.63
| Bond | 184.02
| Boone | 209.10
| Brown | 149.86
| Bureau | 220.02
| Calhoun | 112.14
| Carroll | 215.20
| Cass | 171.27
| Champaign | 249.42
| Christian | 231.24
| Clark | 152.80
| Clay | 137.09
| Clinton | 185.46
| Coles | 210.81
| Cook | 552.40
| Crawford | 140.65
| Cumberland | 169.83
| De Witt | 224.52
| DeKalb | 252.17
| Douglas | 242.83
| DuPage | 449.92
| Edgar | 198.77
| Edwards | 143.81
| Effingham | 176.76
| Fayette | 144.50
| Ford | 207.98
| Franklin | 119.39
| Fulton | 165.79
| Gallatin | 142.07
| Greene | 165.55
| Grundy | 237.40
| Hamilton | 128.76
| Hancock | 189.83
| Hardin | 87.83
| Henderson | 186.35
| Henry | 211.54
| Iroquois | 196.71
| Jackson | 144.18
| Jasper | 150.82
| Jefferson | 111.31
| Jersey | 169.45
| Jo Daviess | 163.56
| Johnson | 99.08
| Kane | 282.64
| Kankakee | 209.39
| Kendall | 242.51
| Knox | 195.93
| La Salle | 244.28
| Lake | 325.23
| Lawrence | 151.25
| Lee | 232.04
| Livingston | 220.32
| Logan | 224.33
| Macon | 247.62
| Macoupin | 192.61
| Madison | 233.06
| Marion | 130.77
| Marshall | 216.17
| Mason | 186.93
| Massac | 103.63
| McDonough | 196.33
| McHenry | 255.41
| McLean | 263.52
| Menard | 208.99
| Mercer | 175.37
| Monroe | 178.26
| Montgomery | 194.78
| Morgan | 220.77
| Moultrie | 233.89
| Ogle | 230.19
| Peoria | 211.27
| Perry | 128.01
| Piatt | 247.89
| Pike | 158.37
| Pope | 93.45
| Pulaski | 109.84
| Putnam | 224.12
| Randolph | 145.17
| Richland | 141.35
| Rock Island | 186.45
| Saline | 129.14
| Sangamon | 239.08
| Schuyler | 146.81
| Scott | 173.95
| Shelby | 188.65
| St. Clair | 198.55
| Stark | 222.57
| Stephenson | 225.51
| Tazewell | 221.44
| Union | 113.72
| Vermilion | 219.59
| Wabash | 148.12
| Warren | 216.62
| Washington | 171.92
| Wayne | 127.53
| White | 133.39
| Whiteside | 211.27
| Will | 237.93
| Williamson | 105.82
| Winnebago | 191.06
| Woodford | 240.18
Indiana | Adams | 220.75
| Allen | 212.11
| Bartholomew | 178.44
| Benton | 206.35
| Blackford | 176.22
| Boone | 203.33
| Brown | 117.13
| Carroll | 201.14
| Cass | 166.57
| Clark | 147.14
| Clay | 136.07
| Clinton | 191.27
| Crawford | 82.55
| Daviess | 203.31
| Dearborn | 129.69
| Decatur | 188.98
| DeKalb | 148.00
| Delaware | 176.97
| Dubois | 145.54
| Elkhart | 298.23
| Fayette | 150.90
| Floyd | 145.57
| Fountain | 179.61
| Franklin | 151.28
| Fulton | 168.41
| Gibson | 173.00
| Grant | 188.34
| Greene | 132.12
| Hamilton | 233.45
| Hancock | 201.25
| Harrison | 122.06
| Hendricks | 203.79
| Henry | 159.74
| Howard | 207.17
| Huntington | 182.87
| Jackson | 141.27
| Jasper | 172.25
| Jay | 202.37
| Jefferson | 110.48
| Jennings | 121.77
| Johnson | 179.96
| Knox | 166.06
| Kosciusko | 189.97
| LaGrange | 246.77
| Lake | 185.86
| LaPorte | 196.23
| Lawrence | 99.14
| Madison | 216.33
| Marion | 281.85
| Marshall | 166.99
| Martin | 103.68
| Miami | 180.09
| Monroe | 175.26
| Montgomery | 186.34
| Morgan | 167.79
| Newton | 179.64
| Noble | 170.59
| Ohio | 116.54
| Orange | 119.77
| Owen | 121.21
| Parke | 155.81
| Perry | 107.07
| Pike | 131.56
| Porter | 180.52
| Posey | 162.03
| Pulaski | 164.08
| Putnam | 171.69
| Randolph | 171.21
| Ripley | 137.75
| Rush | 193.57
| Scott | 143.22
| Shelby | 185.30
| Spencer | 122.97
| St. Joseph | 215.77
| Starke | 133.51
| Steuben | 147.73
| Sullivan | 132.79
| Switzerland | 109.34
| Tippecanoe | 240.84
| Tipton | 217.90
| Union | 169.15
| Vanderburgh | 210.94
| Vermillion | 151.39
| Vigo | 144.74
| Wabash | 167.82
| Warren | 181.05
| Warrick | 144.85
| Washington | 120.09
| Wayne | 146.53
| Wells | 201.28
| White | 208.51
| Whitley | 169.23
Iowa | Adair | 140.17
| Adams | 133.66
| Allamakee | 143.25
| Appanoose | 108.95
| Audubon | 184.02
| Benton | 197.98
| Black Hawk | 233.79
| Boone | 213.50
| Bremer | 214.17
| Buchanan | 211.30
| Buena Vista | 215.62
| Butler | 192.14
| Calhoun | 212.86
| Carroll | 215.22
| Cass | 158.00
| Cedar | 210.61
| Cerro Gordo | 196.75
| Cherokee | 212.11
| Chickasaw | 200.02
| Clarke | 114.47
| Clay | 214.01
| Clayton | 148.62
| Clinton | 202.19
| Crawford | 181.55
| Dallas | 218.94
| Davis | 104.96
| Decatur | 103.05
| Delaware | 208.33
| Des Moines | 185.20
| Dickinson | 199.38
| Dubuque | 231.38
| Emmet | 192.49
| Fayette | 192.33
| Floyd | 197.23
| Franklin | 209.43
| Fremont | 160.86
| Greene | 222.37
| Grundy | 243.52
| Guthrie | 168.88
| Hamilton | 217.50
| Hancock | 204.26
| Hardin | 209.40
| Harrison | 165.12
| Henry | 167.97
| Howard | 199.81
| Humboldt | 216.77
| Ida | 196.91
| Iowa | 171.93
| Jackson | 160.09
| Jasper | 174.53
| Jefferson | 148.43
| Johnson | 215.40
| Jones | 186.59
| Keokuk | 156.44
| Kossuth | 211.52
| Lee | 138.46
| Linn | 223.20
| Louisa | 177.72
| Lucas | 91.47
| Lyon | 267.69
| Madison | 151.91
| Mahaska | 165.98
| Marion | 154.67
| Marshall | 203.69
| Mills | 160.60
| Mitchell | 210.79
| Monona | 154.43
| Monroe | 112.73
| Montgomery | 152.23
| Muscatine | 180.11
| O'Brien | 260.70
| Osceola | 234.84
| Page | 143.92
| Palo Alto | 214.79
| Plymouth | 229.45
| Pocahontas | 216.13
| Polk | 236.95
| Pottawattamie | 181.82
| Poweshiek | 179.79
| Ringgold | 103.29
| Sac | 212.89
| Scott | 256.97
| Shelby | 183.67
| Sioux | 278.87
| Story | 253.73
| Tama | 194.47
| Taylor | 128.97
| Union | 119.48
| Van Buren | 125.27
| Wapello | 130.68
| Warren | 151.05
| Washington | 184.64
| Wayne | 113.96
| Webster | 213.02
| Winnebago | 187.32
| Winneshiek | 171.56
| Woodbury | 197.66
| Worth | 186.43
| Wright | 202.97
Kansas | Allen | 53.84
| Anderson | 54.07
| Atchison | 80.66
| Barber | 38.10
| Barton | 41.66
| Bourbon | 53.28
| Brown | 93.05
| Butler | 60.18
| Chase | 50.71
| Chautauqua | 43.28
| Cherokee | 58.67
| Cheyenne | 39.19
| Clark | 31.50
| Clay | 71.96
| Cloud | 61.08
| Coffey | 48.42
| Comanche | 30.75
| Cowley | 49.06
| Crawford | 53.44
| Decatur | 38.69
| Dickinson | 56.78
| Doniphan | 91.04
| Douglas | 108.04
| Edwards | 48.90
| Elk | 40.99
| Ellis | 35.79
| Ellsworth | 42.67
| Finney | 41.52
| Ford | 41.05
| Franklin | 63.76
| Geary | 61.05
| Gove | 34.52
| Graham | 34.10
| Grant | 41.82
| Gray | 42.35
| Greeley | 37.57
| Greenwood | 44.23
| Hamilton | 28.28
| Harper | 43.57
| Harvey | 84.03
| Haskell | 40.52
| Hodgeman | 31.20
| Jackson | 71.03
| Jefferson | 77.05
| Jewell | 54.66
| Johnson | 100.11
| Kearny | 38.26
| Kingman | 42.96
| Kiowa | 41.68
| Labette | 56.28
| Lane | 33.80
| Leavenworth | 90.77
| Lincoln | 45.82
| Linn | 67.77
| Logan | 35.71
| Lyon | 52.75
| Marion | 54.18
| Marshall | 82.09
| McPherson | 72.67
| Meade | 39.16
| Miami | 82.12
| Mitchell | 49.56
| Montgomery | 53.33
| Morris | 43.04
| Morton | 27.17
| Nemaha | 79.76
| Neosho | 52.08
| Ness | 28.76
| Norton | 36.11
| Osage | 52.85
| Osborne | 37.41
| Ottawa | 53.36
| Pawnee | 43.99
| Phillips | 38.26
| Pottawatomie | 65.30
| Pratt | 54.53
| Rawlins | 40.91
| Reno | 56.75
| Republic | 68.62
| Rice | 54.02
| Riley | 80.18
| Rooks | 33.19
| Rush | 34.47
| Russell | 35.53
| Saline | 62.91
| Scott | 40.20
| Sedgwick | 91.91
| Seward | 37.41
| Shawnee | 79.41
| Sheridan | 41.50
| Sherman | 46.73
| Smith | 50.65
| Stafford | 47.84
| Stanton | 28.23
| Stevens | 36.80
| Sumner | 48.77
| Thomas | 46.35
| Trego | 30.27
| Wabaunsee | 51.13
| Wallace | 35.87
| Washington | 64.37
| Wichita | 37.17
| Wilson | 51.66
| Woodson | 44.10
| Wyandotte | 178.89
Kentucky | Adair | 80.32
| Allen | 92.45
| Anderson | 99.15
| Ballard | 96.51
| Barren | 96.19
| Bath | 63.02
| Bell | 53.14
| Boone | 160.33
| Bourbon | 151.78
| Boyd | 64.22
| Boyle | 99.34
| Bracken | 66.71
| Breathitt | 41.90
| Breckinridge | 82.43
| Bullitt | 137.82
| Butler | 70.71
| Caldwell | 89.16
| Calloway | 110.07
| Campbell | 135.12
| Carlisle | 101.42
| Carroll | 90.61
| Carter | 51.62
| Casey | 62.57
| Christian | 128.63
| Clark | 118.32
| Clay | 48.44
| Clinton | 74.45
| Crittenden | 73.35
| Cumberland | 54.82
| Daviess | 133.14
| Edmonson | 84.86
| Elliott | 43.23
| Estill | 64.20
| Fayette | 390.38
| Fleming | 70.58
| Floyd | 82.46
| Franklin | 105.93
| Fulton | 98.11
| Gallatin | 75.97
| Garrard | 77.89
| Grant | 88.36
| Graves | 102.14
| Grayson | 78.94
| Green | 69.30
| Greenup | 65.98
| Hancock | 79.50
| Hardin | 122.68
| Harlan | 41.76
| Harrison | 82.78
| Hart | 82.19
| Henderson | 136.08
| Henry | 103.10
| Hickman | 107.19
| Hopkins | 90.04
| Jackson | 62.91
| Jefferson | 328.35
| Jessamine | 177.31
| Johnson | 80.14
| Kenton | 149.46
| Knott | 34.15
| Knox | 63.93
| Larue | 94.77
| Laurel | 89.27
| Lawrence | 42.70
| Lee | 54.66
| Leslie | 102.01
| Letcher | 80.11
| Lewis | 55.97
| Lincoln | 86.68
| Livingston | 75.09
| Logan | 128.95
| Lyon | 83.34
| Madison | 92.61
| Magoffin | 55.28
| Marion | 92.98
| Marshall | 101.37
| Martin | 92.15
| Mason | 78.96
| McCracken | 118.99
| McCreary | 65.56
| McLean | 119.26
| Meade | 115.57
| Menifee | 51.62
| Mercer | 104.81
| Metcalfe | 71.49
| Monroe | 76.03
| Montgomery | 93.60
| Morgan | 52.02
| Muhlenberg | 80.00
| Nelson | 108.44
| Nicholas | 62.01
| Ohio | 91.27
| Oldham | 212.67
| Owen | 75.60
| Owsley | 35.84
| Pendleton | 75.84
| Perry | 30.60
| Pike | 37.76
| Powell | 62.33
| Pulaski | 86.47
| Robertson | 58.40
| Rockcastle | 58.19
| Rowan | 73.97
| Russell | 82.59
| Scott | 149.41
| Shelby | 155.12
| Simpson | 151.54
| Spencer | 121.29
| Taylor | 81.13
| Todd | 138.46
| Trigg | 109.75
| Trimble | 86.65
| Union | 134.56
| Warren | 142.44
| Washington | 85.77
| Wayne | 71.19
| Webster | 98.35
| Whitley | 67.61
| Wolfe | 53.83
| Woodford | 216.59
Louisiana | Acadia | 67.55
| Allen | 62.75
| Ascension | 88.68
| Assumption | 72.00
| Avoyelles | 62.22
| Beauregard | 74.32
| Bienville | 62.29
| Bossier | 76.35
| Caddo | 72.95
| Calcasieu | 85.11
| Caldwell | 61.31
| Cameron | 60.60
| Catahoula | 66.08
| Claiborne | 58.43
| Concordia | 68.53
| De Soto | 72.54
| East Baton Rouge | 201.79
| East Carroll | 90.81
| East Feliciana | 68.45
| Evangeline | 59.70
| Franklin | 69.36
| Grant | 66.96
| Iberia | 70.14
| Iberville | 43.92
| Jackson | 97.90
| Jefferson | 57.08
| Jefferson Davis | 54.46
| La Salle | 77.89
| Lafayette | 136.49
| Lafourche | 70.90
| Lincoln | 78.50
| Livingston | 130.86
| Madison | 67.23
| Morehouse | 77.77
| Natchitoches | 57.11
| Orleans | 253.24
| Ouachita | 104.21
| Plaquemines | 34.51
| Pointe Coupee | 75.59
| Rapides | 91.64
| Red River | 54.73
| Richland | 69.24
| Sabine | 92.42
| St. Bernard | 42.85
| St. Charles | 85.38
| St. Helena | 101.71
| St. James | 74.88
| St. John the Baptist | 85.60
| St. Landry | 71.39
| St. Martin | 78.38
| St. Mary | 80.66
| St. Tammany | 262.44
| Tangipahoa | 123.77
| Tensas | 68.55
| Terrebonne | 100.71
| Union | 74.44
| Vermilion | 70.36
| Vernon | 90.56
| Washington | 88.34
| Webster | 71.88
| West Baton Rouge | 68.97
| West Carroll | 80.61
| West Feliciana | 71.78
| Winn | 68.58
Maine | Androscoggin | 88.36
| Aroostook | 43.63
| Cumberland | 171.15
| Franklin | 62.25
| Hancock | 70.02
| Kennebec | 75.75
| Knox | 118.40
| Lincoln | 116.37
| Oxford | 73.02
| Penobscot | 61.80
| Piscataquis | 35.28
| Sagadahoc | 103.59
| Somerset | 36.99
| Waldo | 75.13
| Washington | 38.44
| York | 128.30
Maryland | Allegany | 146.89
| Anne Arundel | 270.87
| Baltimore | 389.42
| Calvert | 269.43
| Caroline | 187.19
| Carroll | 214.82
| Cecil | 210.59
| Charles | 248.44
| Dorchester | 149.10
| Frederick | 250.12
| Garrett | 119.81
| Harford | 286.48
| Howard | 240.51
| Kent | 173.60
| Montgomery | 215.74
| Prince George's | 213.61
| Queen Anne's | 192.78
| Somerset | 150.41
| St. Mary's | 261.34
| Talbot | 184.61
| Washington | 211.64
| Wicomico | 184.77
| Worcester | 139.22
Massachusetts | Barnstable | 720.81
| Berkshire | 180.33
| Bristol | 429.02
| Dukes | 269.62
| Essex | 411.66
| Franklin | 151.43
| Hampden | 244.00
| Hampshire | 180.75
| Middlesex | 376.13
| Nantucket | 922.96
| Norfolk | 404.58
| Plymouth | 225.88
| Suffolk | 5,423.47
| Worcester | 290.09
Michigan | Alcona | 67.53
| Alger | 53.19
| Allegan | 155.95
| Alpena | 66.36
| Antrim | 109.59
| Arenac | 87.48
| Baraga | 57.08
| Barry | 125.18
| Bay | 131.73
| Benzie | 103.28
| Berrien | 168.05
| Branch | 110.45
| Calhoun | 138.43
| Cass | 120.52
| Charlevoix | 98.30
| Cheboygan | 66.80
| Chippewa | 56.43
| Clare | 78.51
| Clinton | 147.45
| Crawford | 91.31
| Delta | 46.54
| Dickinson | 71.11
| Eaton | 108.89
| Emmet | 98.22
| Genesee | 137.20
| Gladwin | 101.93
| Gogebic | 67.82
| Grand Traverse | 165.89
| Gratiot | 141.64
| Hillsdale | 112.36
| Houghton | 61.38
| Huron | 157.70
| Ingham | 138.85
| Ionia | 129.20
| Iosco | 82.21
| Iron | 51.52
| Isabella | 106.88
| Jackson | 130.01
| Kalamazoo | 183.96
| Kalkaska | 69.20
| Kent | 192.43
| Keweenaw | 88.00
| Lake | 64.20
| Lapeer | 120.13
| Leelanau | 190.89
| Lenawee | 136.27
| Livingston | 148.65
| Luce | 65.73
| Mackinac | 52.07
| Macomb | 132.85
| Manistee | 75.20
| Marquette | 57.52
| Mason | 81.12
| Mecosta | 91.39
| Menominee | 55.41
| Midland | 144.51
| Missaukee | 95.38
| Monroe | 160.52
| Montcalm | 104.06
| Montmorency | 55.96
| Muskegon | 167.53
| Newaygo | 101.40
| Oakland | 303.07
| Oceana | 108.44
| Ogemaw | 72.93
| Ontonagon | 41.64
| Osceola | 78.30
| Oscoda | 71.47
| Otsego | 72.49
| Ottawa | 215.66
| Presque Isle | 61.15
| Roscommon | 63.91
| Saginaw | 151.36
| Sanilac | 128.55
| Schoolcraft | 47.46
| Shiawassee | 117.62
| St. Clair | 137.00
| St. Joseph | 149.07
| Tuscola | 136.03
| Van Buren | 150.95
| Washtenaw | 203.98
| Wayne | 301.45
| Wexford | 87.82
Minnesota | Aitkin | 56.31
| Anoka | 202.66
| Becker | 77.59
| Beltrami | 52.49
| Benton | 117.22
| Big Stone | 116.09
| Blue Earth | 192.30
| Brown | 175.53
| Carlton | 57.54
| Carver | 180.02
| Cass | 66.83
| Chippewa | 157.37
| Chisago | 122.16
| Clay | 105.41
| Clearwater | 54.10
| Cook | 158.25
| Cottonwood | 168.77
| Crow Wing | 71.77
| Dakota | 184.29
| Dodge | 184.02
| Douglas | 105.36
| Faribault | 181.54
| Fillmore | 148.30
| Freeborn | 161.01
| Goodhue | 165.65
| Grant | 117.56
| Hennepin | 359.50
| Houston | 114.55
| Hubbard | 70.65
| Isanti | 103.79
| Itasca | 75.88
| Jackson | 171.90
| Kanabec | 70.81
| Kandiyohi | 139.32
| Kittson | 60.05
| Koochiching | 38.53
| Lac qui Parle | 119.57
| Lake | 96.90
| Lake of the Woods | 45.31
| Le Sueur | 164.88
| Lincoln | 129.12
| Lyon | 156.25
| Mahnomen | 78.90
| Marshall | 66.06
| Martin | 179.21
| McLeod | 152.83
| Meeker | 138.58
| Mille Lacs | 82.83
| Morrison | 88.38
| Mower | 181.91
| Murray | 164.64
| Nicollet | 186.96
| Nobles | 184.53
| Norman | 88.14
| Olmsted | 177.75
| Otter Tail | 79.27
| Pennington | 51.48
| Pine | 63.12
| Pipestone | 155.75
| Polk | 87.58
| Pope | 110.65
| Ramsey | 711.47
| Red Lake | 63.28
| Redwood | 166.59
| Renville | 175.16
| Rice | 183.09
| Rock | 203.75
| Roseau | 46.54
| Scott | 202.66
| Sherburne | 137.64
| Sibley | 180.12
| St. Louis | 53.19
| Stearns | 137.48
| Steele | 165.57
| Stevens | 135.56
| Swift | 134.65
| Todd | 73.29
| Traverse | 132.94
| Wabasha | 147.36
| Wadena | 58.74
| Waseca | 176.79
| Washington | 232.16
| Watonwan | 189.49
| Wilkin | 103.39
| Winona | 153.61
| Wright | 171.98
| Yellow Medicine | 144.40
Mississippi | Adams | 73.84
| Alcorn | 53.34
| Amite | 79.90
| Attala | 46.21
| Benton | 48.21
| Bolivar | 75.72
| Calhoun | 44.45
| Carroll | 53.51
| Chickasaw | 50.14
| Choctaw | 46.08
| Claiborne | 67.78
| Clarke | 55.99
| Clay | 46.98
| Coahoma | 82.78
| Copiah | 64.15
| Covington | 90.23
| DeSoto | 75.32
| Forrest | 106.23
| Franklin | 79.45
| George | 93.39
| Greene | 63.28
| Grenada | 55.07
| Hancock | 96.64
| Harrison | 209.60
| Hinds | 82.40
| Holmes | 60.70
| Humphreys | 81.85
| Issaquena | 68.51
| Itawamba | 42.85
| Jackson | 125.45
| Jasper | 70.21
| Jefferson | 63.08
| Jefferson Davis | 64.33
| Jones | 94.76
| Kemper | 50.61
| Lafayette | 68.58
| Lamar | 88.81
| Lauderdale | 51.44
| Lawrence | 80.37
| Leake | 75.77
| Lee | 45.86
| Leflore | 72.64
| Lincoln | 76.87
| Lowndes | 63.33
| Madison | 65.78
| Marion | 72.11
| Marshall | 60.15
| Monroe | 55.02
| Montgomery | 50.04
| Neshoba | 66.68
| Newton | 59.35
| Noxubee | 63.40
| Oktibbeha | 69.98
| Panola | 61.65
| Pearl River | 88.73
| Perry | 80.35
| Pike | 93.26
| Pontotoc | 49.26
| Prentiss | 51.21
| Quitman | 71.61
| Rankin | 82.60
| Scott | 63.73
| Sharkey | 82.85
| Simpson | 69.03
| Smith | 71.91
| Stone | 82.80
| Sunflower | 79.70
| Tallahatchie | 70.59
| Tate | 70.71
| Tippah | 51.86
| Tishomingo | 47.31
| Tunica | 73.96
| Union | 50.04
| Walthall | 77.69
| Warren | 60.75
| Washington | 92.81
| Wayne | 77.49
| Webster | 45.88
| Wilkinson | 60.10
| Winston | 56.99
| Yalobusha | 46.66
| Yazoo | 69.81
Missouri | Adair | 73.20
| Andrew | 100.75
| Atchison | 128.54
| Audrain | 111.58
| Barry | 89.89
| Barton | 72.17
| Bates | 81.01
| Benton | 71.75
| Bollinger | 65.72
| Boone | 148.23
| Buchanan | 106.25
| Butler | 123.08
| Caldwell | 83.10
| Callaway | 103.82
| Camden | 57.88
| Cape Girardeau | 113.86
| Carroll | 93.85
| Carter | 50.05
| Cass | 98.55
| Cedar | 65.25
| Chariton | 90.16
| Christian | 105.57
| Clark | 93.72
| Clay | 109.29
| Clinton | 97.55
| Cole | 95.58
| Cooper | 85.67
| Crawford | 67.72
| Dade | 73.59
| Dallas | 66.54
| Daviess | 85.60
| DeKalb | 85.80
| Dent | 54.82
| Douglas | 55.05
| Dunklin | 133.44
| Franklin | 101.30
| Gasconade | 73.06
| Gentry | 81.22
| Greene | 124.39
| Grundy | 76.76
| Harrison | 72.57
| Henry | 70.52
| Hickory | 55.26
| Holt | 128.27
| Howard | 79.25
| Howell | 56.21
| Iron | 54.14
| Jackson | 152.42
| Jasper | 84.44
| Jefferson | 110.11
| Johnson | 87.67
| Knox | 79.75
| Laclede | 65.99
| Lafayette | 118.89
| Lawrence | 83.84
| Lewis | 86.83
| Lincoln | 114.33
| Linn | 75.58
| Livingston | 88.40
| Macon | 83.73
| Madison | 55.03
| Maries | 51.67
| Marion | 103.97
| McDonald | 70.31
| Mercer | 70.60
| Miller | 65.46
| Mississippi | 153.02
| Moniteau | 93.59
| Monroe | 93.30
| Montgomery | 98.86
| Morgan | 100.59
| New Madrid | 146.57
| Newton | 95.40
| Nodaway | 105.18
| Oregon | 46.69
| Osage | 63.31
| Ozark | 55.92
| Pemiscot | 137.24
| Perry | 85.80
| Pettis | 91.76
| Phelps | 69.11
| Pike | 92.18
| Platte | 116.11
| Polk | 66.20
| Pulaski | 58.65
| Putnam | 66.06
| Ralls | 100.93
| Randolph | 90.73
| Ray | 92.18
| Reynolds | 41.92
| Ripley | 64.12
| Saline | 105.13
| Schuyler | 67.66
| Scotland | 88.35
| Scott | 133.36
| Shannon | 51.46
| Shelby | 97.76
| St Louis | 113.99
| St. Charles | 128.07
| St. Clair | 64.31
| St. Francois | 76.89
| Ste. Genevieve | 77.36
| Stoddard | 140.33
| Stone | 75.87
| Sullivan | 61.29
| Taney | 58.59
| Texas | 54.16
| Vernon | 74.48
| Warren | 106.12
| Washington | 62.18
| Wayne | 61.61
| Webster | 81.32
| Worth | 74.56
| Wright | 56.57
Montana | Beaverhead | 26.61
| Big Horn | 7.94
| Blaine | 11.96
| Broadwater | 23.64
| Carbon | 29.98
| Carter | 10.87
| Cascade | 24.49
| Chouteau | 18.85
| Custer | 10.83
| Daniels | 12.81
| Dawson | 13.50
| Deer Lodge | 39.26
| Fallon | 12.20
| Fergus | 22.10
| Flathead | 129.08
| Gallatin | 61.22
| Garfield | 8.16
| Glacier | 23.58
| Golden Valley | 13.54
| Granite | 32.69
| Hill | 17.40
| Jefferson | 34.39
| Judith Basin | 18.77
| Lake | 32.45
| Lewis and Clark | 26.39
| Liberty | 18.12
| Lincoln | 106.07
| Madison | 34.55
| McCone | 10.67
| Meagher | 18.34
| Mineral | 101.06
| Missoula | 56.49
| Musselshell | 12.91
| Park | 52.71
| Petroleum | 13.70
| Phillips | 10.71
| Pondera | 24.39
| Powder River | 11.13
| Powell | 26.16
| Prairie | 15.64
| Ravalli | 115.85
| Richland | 17.72
| Roosevelt | 14.59
| Rosebud | 8.69
| Sanders | 19.96
| Sheridan | 14.02
| Silver Bow | 45.48
| Stillwater | 27.15
| Sweet Grass | 22.95
| Teton | 23.96
| Toole | 17.72
| Treasure | 11.68
| Valley | 13.01
| Wheatland | 14.00
| Wibaux | 12.47
| Yellowstone | 20.26
Nebraska | Adams | 129.26
| Antelope | 111.41
| Arthur | 19.45
| Banner | 21.17
| Blaine | 24.11
| Boone | 108.04
| Box Butte | 32.39
| Boyd | 49.25
| Brown | 28.46
| Buffalo | 106.68
| Burt | 149.58
| Butler | 138.24
| Cass | 136.16
| Cedar | 125.83
| Chase | 50.63
| Cherry | 22.66
| Cheyenne | 24.77
| Clay | 117.77
| Colfax | 150.41
| Cuming | 147.81
| Custer | 60.10
| Dakota | 137.34
| Dawes | 21.59
| Dawson | 82.85
| Deuel | 31.69
| Dixon | 113.55
| Dodge | 155.70
| Douglas | 185.62
| Dundy | 37.15
| Fillmore | 132.29
| Franklin | 84.07
| Frontier | 45.63
| Furnas | 59.91
| Gage | 107.50
| Garden | 21.03
| Garfield | 36.01
| Gosper | 68.28
| Grant | 20.32
| Greeley | 72.00
| Hall | 123.43
| Hamilton | 153.98
| Harlan | 69.89
| Hayes | 34.36
| Hitchcock | 38.22
| Holt | 57.79
| Hooker | 17.85
| Howard | 84.77
| Jefferson | 100.80
| Johnson | 88.17
| Kearney | 127.05
| Keith | 39.48
| Keya Paha | 34.38
| Kimball | 26.10
| Knox | 81.23
| Lancaster | 135.94
| Lincoln | 40.65
| Logan | 29.14
| Loup | 28.24
| Madison | 141.30
| McPherson | 19.89
| Merrick | 123.21
| Morrill | 27.80
| Nance | 102.64
| Nemaha | 110.44
| Nuckolls | 87.13
| Otoe | 120.37
| Pawnee | 78.77
| Perkins | 51.97
| Phelps | 124.18
| Pierce | 118.31
| Platte | 153.66
| Polk | 143.54
| Red Willow | 47.28
| Richardson | 103.62
| Rock | 27.63
| Saline | 114.52
| Sarpy | 180.64
| Saunders | 136.98
| Scotts Bluff | 49.49
| Seward | 138.66
| Sheridan | 23.55
| Sherman | 64.98
| Sioux | 21.88
| Stanton | 121.20
| Thayer | 95.19
| Thomas | 18.94
| Thurston | 117.21
| Valley | 69.89
| Washington | 158.30
| Wayne | 133.85
| Webster | 66.51
| Wheeler | 37.10
| York | 167.02
Nevada | Carson City | 6.18
| Churchill | 13.01
| Clark | 21.12
| Douglas | 13.96
| Elko | 3.73
| Esmeralda | 14.15
| Eureka | 3.40
| Humboldt | 6.03
| Lander | 7.13
| Lincoln | 17.50
| Lyon | 15.53
| Mineral | 1.99
| Nye | 11.77
| Pershing | 5.44
| Storey | 6.18
| Washoe | 6.97
| White Pine | 9.01
New Hampshire | Belknap | 125.21
| Carroll | 100.11
| Cheshire | 96.60
| Coos | 65.33
| Grafton | 99.55
| Hillsborough | 198.11
| Merrimack | 147.73
| Rockingham | 287.44
| Strafford | 165.44
| Sullivan | 122.10
New Jersey | Atlantic | 306.75
| Bergen | 2,390.59
| Burlington | 241.57
| Camden | 394.58
| Cape May | 349.93
| Cumberland | 235.54
| Essex | 2,029.05
| Gloucester | 304.63
| Hudson | 1,209.00
| Hunterdon | 375.31
| Mercer | 435.32
| Middlesex | 523.25
| Monmouth | 504.24
| Morris | 514.91
| Ocean | 457.35
| Passaic | 767.90
| Salem | 202.35
| Somerset | 475.26
| Sussex | 277.21
| Union | 3,759.62
| Warren | 292.81
New Mexico | Bernalillo | 53.21
| Catron | 8.10
| Chaves | 9.12
| Cibola | 6.11
| Colfax | 9.74
| Curry | 13.40
| De Baca | 7.23
| Dona Ana | 47.91
| Eddy | 11.40
| Grant | 9.39
| Guadalupe | 6.00
| Harding | 7.06
| Hidalgo | 10.05
| Lea | 7.95
| Lincoln | 9.60
| Los Alamos | 10.05
| Luna | 9.93
| McKinley | 8.25
| Mora | 10.65
| Otero | 8.47
| Quay | 6.79
| Rio Arriba | 16.55
| Roosevelt | 8.81
| San Juan | 10.30
| San Miguel | 7.75
| Sandoval | 8.66
| Santa Fe | 16.99
| Sierra | 6.96
| Socorro | 12.11
| Taos | 31.53
| Torrance | 9.20
| Union | 7.97
| Valencia | 22.41
New York | Albany | 115.79
| Allegany | 52.42
| Bronx | 84.09
| Broome | 80.45
| Cattaraugus | 59.66
| Cayuga | 103.00
| Chautauqua | 68.88
| Chemung | 68.21
| Chenango | 53.54
| Clinton | 68.88
| Columbia | 109.07
| Cortland | 60.42
| Delaware | 75.00
| Dutchess | 235.43
| Erie | 119.17
| Essex | 62.03
| Franklin | 64.77
| Fulton | 72.69
| Genesee | 87.11
| Greene | 82.19
| Hamilton | 87.01
| Herkimer | 59.61
| Jefferson | 69.72
| Kings | 11,552.73
| Lewis | 52.32
| Livingston | 96.67
| Madison | 68.26
| Monroe | 112.14
| Montgomery | 64.72
| Nassau | 452.16
| New York | 84.09
| Niagara | 79.95
| Oneida | 69.25
| Onondaga | 107.35
| Ontario | 104.87
| Orange | 180.63
| Orleans | 82.63
| Oswego | 57.63
| Otsego | 69.43
| Putnam | 156.28
| Queens | 1,263.52
| Rensselaer | 91.49
| Richmond | 84.09
| Rockland | 749.31
| Saratoga | 153.39
| Schenectady | 111.67
| Schoharie | 63.41
| Schuyler | 85.16
| Seneca | 97.82
| St. Lawrence | 47.71
| Steuben | 54.66
| Suffolk | 318.22
| Sullivan | 109.72
| Tioga | 59.51
| Tompkins | 98.68
| Ulster | 179.67
| Warren | 108.70
| Washington | 72.76
| Wayne | 89.51
| Westchester | 277.25
| Wyoming | 90.19
| Yates | 136.13
North Carolina | Alamance | 156.90
| Alexander | 147.27
| Alleghany | 129.10
| Anson | 106.85
| Ashe | 137.49
| Avery | 169.82
| Beaufort | 89.43
| Bertie | 79.29
| Bladen | 87.18
| Brunswick | 102.51
| Buncombe | 260.16
| Burke | 149.08
| Cabarrus | 227.74
| Caldwell | 118.67
| Camden | 83.21
| Carteret | 118.61
| Caswell | 84.75
| Catawba | 171.10
| Chatham | 143.95
| Cherokee | 128.29
| Chowan | 91.37
| Clay | 164.14
| Cleveland | 121.96
| Columbus | 85.35
| Craven | 102.95
| Cumberland | 135.09
| Currituck | 128.29
| Dare | 110.01
| Davidson | 151.59
| Davie | 133.08
| Duplin | 125.47
| Durham | 278.65
| Edgecombe | 79.73
| Forsyth | 243.37
| Franklin | 92.99
| Gaston | 160.58
| Gates | 94.79
| Graham | 125.20
| Granville | 91.11
| Greene | 103.16
| Guilford | 213.85
| Halifax | 67.10
| Harnett | 145.78
| Haywood | 168.95
| Henderson | 202.82
| Hertford | 83.65
| Hoke | 115.11
| Hyde | 77.77
| Iredell | 142.20
| Jackson | 214.30
| Johnston | 123.98
| Jones | 106.01
| Lee | 150.73
| Lenoir | 104.08
| Lincoln | 149.86
| Macon | 208.31
| Madison | 129.68
| Martin | 70.03
| McDowell | 137.49
| Mecklenburg | 896.62
| Mitchell | 152.06
| Montgomery | 124.03
| Moore | 133.39
| Nash | 120.99
| New Hanover | 890.11
| Northampton | 73.14
| Onslow | 164.32
| Orange | 174.84
| Pamlico | 95.50
| Pasquotank | 104.18
| Pender | 139.87
| Perquimans | 93.09
| Person | 98.79
| Pitt | 100.55
| Polk | 168.46
| Randolph | 132.11
| Richmond | 114.14
| Robeson | 86.69
| Rockingham | 101.28
| Rowan | 152.98
| Rutherford | 125.05
| Sampson | 127.90
| Scotland | 94.14
| Stanly | 120.26
| Stokes | 106.80
| Surry | 116.92
| Swain | 95.66
| Transylvania | 202.27
| Tyrrell | 108.47
| Union | 139.53
| Vance | 77.87
| Wake | 304.85
| Warren | 76.07
| Washington | 95.92
| Watauga | 168.38
| Wayne | 130.49
| Wilkes | 133.99
| Wilson | 98.95
| Yadkin | 143.06
| Yancey | 142.41
North Dakota | Adams | 28.54
| Barnes | 61.81
| Benson | 36.59
| Billings | 24.58
| Bottineau | 41.35
| Bowman | 27.49
| Burke | 28.19
| Burleigh | 50.81
| Cass | 99.43
| Cavalier | 55.63
| Dickey | 63.52
| Divide | 28.59
| Dunn | 30.68
| Eddy | 38.91
| Emmons | 42.39
| Foster | 53.70
| Golden Valley | 28.13
| Grand Forks | 91.22
| Grant | 28.64
| Griggs | 47.52
| Hettinger | 37.58
| Kidder | 33.64
| LaMoure | 67.90
| Logan | 31.85
| McHenry | 29.12
| McIntosh | 36.48
| McKenzie | 27.44
| McLean | 47.74
| Mercer | 36.59
| Morton | 37.55
| Mountrail | 34.18
| Nelson | 36.37
| Oliver | 38.59
| Pembina | 73.73
| Pierce | 37.68
| Ramsey | 48.38
| Ransom | 53.81
| Renville | 42.92
| Richland | 85.29
| Rolette | 34.23
| Sargent | 74.54
| Sheridan | 29.36
| Sioux | 33.24
| Slope | 28.27
| Stark | 35.60
| Steele | 58.76
| Stutsman | 53.62
| Towner | 37.04
| Traill | 82.48
| Walsh | 67.21
| Ward | 43.67
| Wells | 45.76
| Williams | 29.31
Ohio | Adams | 103.52
| Allen | 193.49
| Ashland | 162.00
| Ashtabula | 116.61
| Athens | 85.68
| Auglaize | 217.09
| Belmont | 102.10
| Brown | 117.54
| Butler | 220.13
| Carroll | 125.60
| Champaign | 191.20
| Clark | 201.12
| Clermont | 149.46
| Clinton | 158.88
| Columbiana | 153.84
| Coshocton | 140.77
| Crawford | 171.89
| Cuyahoga | 435.03
| Darke | 221.83
| Defiance | 152.96
| Delaware | 208.64
| Erie | 174.50
| Fairfield | 205.38
| Fayette | 190.45
| Franklin | 214.42
| Fulton | 186.26
| Gallia | 83.81
| Geauga | 193.20
| Greene | 190.40
| Guernsey | 99.25
| Hamilton | 354.47
| Hancock | 161.12
| Hardin | 157.01
| Harrison | 88.26
| Henry | 174.66
| Highland | 133.89
| Hocking | 120.72
| Holmes | 206.42
| Huron | 162.21
| Jackson | 75.04
| Jefferson | 145.70
| Knox | 161.25
| Lake | 217.65
| Lawrence | 87.65
| Licking | 176.42
| Logan | 161.36
| Lorain | 199.57
| Lucas | 220.71
| Madison | 184.90
| Mahoning | 176.69
| Marion | 155.68
| Medina | 208.88
| Meigs | 92.45
| Mercer | 257.94
| Miami | 197.89
| Monroe | 87.14
| Montgomery | 192.37
| Morgan | 92.21
| Morrow | 160.05
| Muskingum | 109.36
| Noble | 82.08
| Ottawa | 144.24
| Paulding | 166.93
| Perry | 121.97
| Pickaway | 160.88
| Pike | 110.82
| Portage | 173.62
| Preble | 170.58
| Putnam | 178.50
| Richland | 200.13
| Ross | 122.21
| Sandusky | 158.02
| Scioto | 83.68
| Seneca | 157.04
| Shelby | 205.01
| Stark | 246.50
| Summit | 356.39
| Trumbull | 115.49
| Tuscarawas | 148.13
| Union | 169.33
| Van Wert | 199.84
| Vinton | 84.42
| Warren | 208.64
| Washington | 85.04
| Wayne | 238.39
| Williams | 137.62
| Wood | 177.57
| Wyandot | 152.16
Oklahoma | Adair | 62.85
| Alfalfa | 44.75
| Atoka | 48.19
| Beaver | 23.60
| Beckham | 35.00
| Blaine | 42.78
| Bryan | 59.57
| Caddo | 45.51
| Canadian | 61.72
| Carter | 53.34
| Cherokee | 65.24
| Choctaw | 46.61
| Cimarron | 21.68
| Cleveland | 127.47
| Coal | 47.85
| Comanche | 50.66
| Cotton | 35.71
| Craig | 55.31
| Creek | 57.62
| Custer | 38.15
| Delaware | 71.71
| Dewey | 36.03
| Ellis | 26.12
| Garfield | 45.62
| Garvin | 50.37
| Grady | 55.13
| Grant | 42.17
| Greer | 30.38
| Harmon | 32.90
| Harper | 28.93
| Haskell | 49.98
| Hughes | 41.91
| Jackson | 36.73
| Jefferson | 40.62
| Johnston | 49.19
| Kay | 43.22
| Kingfisher | 50.53
| Kiowa | 32.95
| Latimer | 47.19
| Le Flore | 56.81
| Lincoln | 58.89
| Logan | 58.86
| Love | 64.51
| Major | 38.99
| Marshall | 63.64
| Mayes | 73.05
| McClain | 69.27
| McCurtain | 56.26
| McIntosh | 49.95
| Murray | 56.18
| Muskogee | 59.28
| Noble | 46.75
| Nowata | 54.21
| Okfuskee | 45.01
| Oklahoma | 170.27
| Okmulgee | 58.12
| Osage | 41.83
| Ottawa | 72.94
| Pawnee | 46.85
| Payne | 63.62
| Pittsburg | 46.04
| Pontotoc | 56.97
| Pottawatomie | 59.23
| Pushmataha | 40.52
| Roger Mills | 33.69
| Rogers | 76.46
| Seminole | 47.90
| Sequoyah | 57.57
| Stephens | 46.22
| Texas | 26.62
| Tillman | 34.87
| Tulsa | 153.17
| Wagoner | 74.44
| Washington | 61.86
| Washita | 39.05
| Woods | 34.84
| Woodward | 31.95
Oregon | Baker | 23.25
| Benton | 119.74
| Clackamas | 400.15
| Clatsop | 133.04
| Columbia | 160.96
| Coos | 56.69
| Crook | 17.76
| Curry | 65.86
| Deschutes | 161.20
| Douglas | 63.50
| Gilliam | 13.39
| Grant | 19.25
| Harney | 12.68
| Hood River | 259.02
| Jackson | 157.98
| Jefferson | 15.90
| Josephine | 334.64
| Klamath | 40.71
| Lake | 20.11
| Lane | 159.14
| Lincoln | 102.26
| Linn | 131.91
| Malheur | 27.68
| Marion | 230.02
| Morrow | 20.96
| Multnomah | 388.34
| Polk | 132.35
| Sherman | 15.81
| Tillamook | 145.00
| Umatilla | 33.93
| Union | 33.70
| Wallowa | 30.35
| Wasco | 16.94
| Washington | 318.03
| Wheeler | 16.83
| Yamhill | 189.31
Pennsylvania | Adams | 181.99
| Allegheny | 231.68
| Armstrong | 96.31
| Beaver | 159.90
| Bedford | 107.73
| Berks | 296.25
| Blair | 178.32
| Bradford | 95.75
| Bucks | 248.65
| Butler | 139.84
| Cambria | 122.39
| Cameron | 75.17
| Carbon | 174.94
| Centre | 177.08
| Chester | 320.85
| Clarion | 84.84
| Clearfield | 95.36
| Clinton | 172.80
| Columbia | 159.34
| Crawford | 88.30
| Cumberland | 201.21
| Dauphin | 232.34
| Delaware | 380.45
| Elk | 110.95
| Erie | 119.22
| Fayette | 109.44
| Forest | 129.50
| Franklin | 198.96
| Fulton | 110.34
| Greene | 96.31
| Huntingdon | 127.23
| Indiana | 95.15
| Jefferson | 87.59
| Juniata | 172.37
| Lackawanna | 140.10
| Lancaster | 483.26
| Lawrence | 115.97
| Lebanon | 380.58
| Lehigh | 207.45
| Luzerne | 160.24
| Lycoming | 135.29
| McKean | 75.27
| Mercer | 105.64
| Mifflin | 163.31
| Monroe | 155.72
| Montgomery | 511.67
| Montour | 170.26
| Northampton | 198.33
| Northumberland | 155.19
| Perry | 175.20
| Philadelphia | 1,551.70
| Pike | 58.83
| Potter | 90.63
| Schuylkill | 175.62
| Snyder | 193.78
| Somerset | 85.18
| Sullivan | 108.12
| Susquehanna | 125.28
| Tioga | 100.35
| Union | 253.70
| Venango | 100.35
| Warren | 91.47
| Washington | 172.08
| Wayne | 113.49
| Westmoreland | 156.17
| Wyoming | 109.52
| York | 216.75
Puerto Rico | All Areas | 143.15
Rhode Island | Bristol | 1,007.65
| Kent | 316.37
| Newport | 545.50
| Providence | 318.62
| Washington | 304.14
South Carolina | Abbeville | 80.35
| Aiken | 97.77
| Allendale | 57.25
| Anderson | 147.29
| Bamberg | 76.10
| Barnwell | 72.28
| Beaufort | 94.00
| Berkeley | 69.37
| Calhoun | 79.18
| Charleston | 243.16
| Cherokee | 87.31
| Chester | 86.24
| Chesterfield | 76.61
| Clarendon | 59.02
| Colleton | 78.64
| Darlington | 67.38
| Dillon | 59.46
| Dorchester | 72.96
| Edgefield | 91.54
| Fairfield | 74.41
| Florence | 82.17
| Georgetown | 53.02
| Greenville | 238.46
| Greenwood | 88.66
| Hampton | 63.30
| Horry | 117.05
| Jasper | 95.02
| Kershaw | 80.17
| Lancaster | 102.57
| Laurens | 99.51
| Lee | 62.70
| Lexington | 143.60
| Marion | 60.50
| Marlboro | 50.01
| McCormick | 52.01
| Newberry | 86.01
| Oconee | 165.71
| Orangeburg | 78.33
| Pickens | 182.97
| Richland | 124.50
| Saluda | 80.27
| Spartanburg | 213.62
| Sumter | 77.73
| Union | 65.77
| Williamsburg | 58.27
| York | 181.13
South Dakota | Aurora | 70.68
| Beadle | 71.72
| Bennett | 25.35
| Bon Homme | 106.10
| Brookings | 122.56
| Brown | 89.53
| Brule | 68.66
| Buffalo | 41.15
| Butte | 25.54
| Campbell | 48.76
| Charles Mix | 74.25
| Clark | 83.89
| Clay | 125.22
| Codington | 92.33
| Corson | 24.47
| Custer | 42.50
| Davison | 90.49
| Day | 70.44
| Deuel | 91.83
| Dewey | 25.83
| Douglas | 99.10
| Edmunds | 65.51
| Fall River | 19.07
| Faulk | 67.83
| Grant | 99.31
| Gregory | 50.04
| Haakon | 24.58
| Hamlin | 104.56
| Hand | 54.75
| Hanson | 115.10
| Harding | 17.71
| Hughes | 50.36
| Hutchinson | 119.71
| Hyde | 40.67
| Jackson | 23.30
| Jerauld | 63.68
| Jones | 30.44
| Kingsbury | 101.47
| Lake | 136.38
| Lawrence | 47.64
| Lincoln | 183.92
| Lyman | 43.97
| Marshall | 74.94
| McCook | 116.30
| McPherson | 57.36
| Meade | 25.33
| Mellette | 25.70
| Miner | 94.09
| Minnehaha | 171.75
| Moody | 154.99
| Pennington | 17.94
| Perkins | 28.18
| Potter | 22.13
| Roberts | 56.30
| Sanborn | 80.08
| Shannon | 76.09
| Spink | 83.41
| Stanley | 24.53
| Sully | 57.36
| Todd | 22.64
| Tripp | 43.14
| Turner | 133.66
| Union | 156.46
| Walworth | 52.73
| Yankton | 117.76
| Ziebach | 22.77
Tennessee | Anderson | 145.71
| Bedford | 111.11
| Benton | 66.36
| Bledsoe | 91.85
| Blount | 171.60
| Bradley | 161.71
| Campbell | 110.33
| Cannon | 95.64
| Carroll | 72.92
| Carter | 138.62
| Cheatham | 121.50
| Chester | 67.72
| Claiborne | 83.40
| Clay | 88.87
| Cocke | 118.04
| Coffee | 109.45
| Crockett | 89.72
| Cumberland | 107.80
| Davidson | 239.38
| Decatur | 58.90
| DeKalb | 90.23
| Dickson | 112.01
| Dyer | 89.69
| Fayette | 89.93
| Fentress | 92.57
| Franklin | 109.35
| Gibson | 94.41
| Giles | 87.32
| Grainger | 101.27
| Greene | 119.80
| Grundy | 92.23
| Hamblen | 146.83
| Hamilton | 262.63
| Hancock | 70.98
| Hardeman | 61.03
| Hardin | 59.51
| Hawkins | 99.37
| Haywood | 88.50
| Henderson | 67.24
| Henry | 88.63
| Hickman | 84.10
| Houston | 86.20
| Humphreys | 74.20
| Jackson | 82.79
| Jefferson | 137.29
| Johnson | 105.93
| Knox | 262.50
| Lake | 93.61
| Lauderdale | 90.25
| Lawrence | 87.88
| Lewis | 76.23
| Lincoln | 97.67
| Loudon | 151.71
| Macon | 100.33
| Madison | 87.00
| Marion | 86.76
| Marshall | 93.27
| Maury | 107.64
| McMinn | 124.41
| McNairy | 58.74
| Meigs | 88.71
| Monroe | 113.37
| Montgomery | 131.10
| Moore | 96.55
| Morgan | 81.54
| Obion | 95.96
| Overton | 89.96
| Perry | 59.09
| Pickett | 93.35
| Polk | 109.67
| Putnam | 123.96
| Rhea | 114.94
| Roane | 140.41
| Robertson | 140.91
| Rutherford | 196.27
| Scott | 71.22
| Sequatchie | 103.03
| Sevier | 163.02
| Shelby | 139.64
| Smith | 92.01
| Stewart | 70.66
| Sullivan | 188.38
| Sumner | 141.63
| Tipton | 87.72
| Trousdale | 91.51
| Unicoi | 190.51
| Union | 109.11
| Van Buren | 89.32
| Warren | 92.15
| Washington | 209.87
| Wayne | 63.11
| Weakley | 96.41
| White | 101.75
| Williamson | 161.61
| Wilson | 130.94
Texas | Anderson | 72.18
| Andrews | 20.03
| Angelina | 92.75
| Aransas | 42.86
| Archer | 37.82
| Armstrong | 23.64
| Atascosa | 58.11
| Austin | 99.41
| Bailey | 21.68
| Bandera | 64.42
| Bastrop | 104.71
| Baylor | 26.27
| Bee | 52.10
| Bell | 83.53
| Bexar | 151.16
| Blanco | 75.90
| Borden | 22.47
| Bosque | 63.20
| Bowie | 76.43
| Brazoria | 119.14
| Brazos | 144.79
| Brewster | 17.33
| Briscoe | 22.73
| Brooks | 39.50
| Brown | 61.36
| Burleson | 87.22
| Burnet | 75.44
| Caldwell | 97.25
| Calhoun | 54.57
| Callahan | 44.08
| Cameron | 90.61
| Camp | 83.84
| Carson | 34.59
| Cass | 59.68
| Castro | 35.12
| Chambers | 60.24
| Cherokee | 79.08
| Childress | 23.54
| Clay | 48.97
| Cochran | 23.57
| Coke | 24.48
| Coleman | 41.82
| Collin | 253.14
| Collingsworth | 25.81
| Colorado | 76.58
| Comal | 86.92
| Comanche | 67.17
| Concho | 37.54
| Cooke | 84.17
| Coryell | 66.33
| Cottle | 28.25
| Crane | 21.58
| Crockett | 20.67
| Crosby | 24.69
| Culberson | 18.73
| Dallam | 28.86
| Dallas | 206.08
| Dawson | 26.47
| Deaf Smith | 28.71
| Delta | 50.09
| Denton | 243.06
| DeWitt | 78.19
| Dickens | 27.11
| Dimmit | 35.89
| Donley | 22.02
| Duval | 43.19
| Eastland | 49.99
| Ector | 29.47
| Edwards | 29.78
| El Paso | 102.19
| Ellis | 81.72
| Erath | 80.58
| Falls | 63.96
| Fannin | 73.12
| Fayette | 102.62
| Fisher | 28.79
| Floyd | 25.60
| Foard | 28.40
| Fort Bend | 78.98
| Franklin | 78.90
| Freestone | 65.28
| Frio | 47.03
| Gaines | 29.40
| Galveston | 134.87
| Garza | 25.58
| Gillespie | 77.35
| Glasscock | 23.39
| Goliad | 67.65
| Gonzales | 80.94
| Gray | 29.12
| Grayson | 172.31
| Gregg | 143.78
| Grimes | 97.91
| Guadalupe | 99.08
| Hale | 33.11
| Hall | 23.39
| Hamilton | 63.88
| Hansford | 34.16
| Hardeman | 26.57
| Hardin | 79.59
| Harris | 219.77
| Harrison | 66.89
| Hartley | 31.59
| Haskell | 26.77
| Hays | 248.74
| Hemphill | 28.35
| Henderson | 81.14
| Hidalgo | 109.92
| Hill | 64.37
| Hockley | 25.66
| Hood | 87.25
| Hopkins | 74.27
| Houston | 71.04
| Howard | 23.54
| Hudspeth | 22.98
| Hunt | 78.75
| Hutchinson | 24.64
| Irion | 25.32
| Jack | 59.38
| Jackson | 74.06
| Jasper | 81.62
| Jeff Davis | 17.49
| Jefferson | 59.94
| Jim Hogg | 44.21
| Jim Wells | 52.66
| Johnson | 100.56
| Jones | 29.04
| Karnes | 62.25
| Kaufman | 76.61
| Kendall | 78.80
| Kenedy | 18.76
| Kent | 21.81
| Kerr | 63.55
| Kimble | 50.70
| King | 17.64
| Kinney | 31.59
| Kleberg | 33.60
| Knox | 28.35
| La Salle | 40.32
| Lamar | 63.81
| Lamb | 31.71
| Lampasas | 71.98
| Lavaca | 89.36
| Lee | 93.56
| Leon | 77.30
| Liberty | 76.56
| Limestone | 46.88
| Lipscomb | 28.61
| Live Oak | 54.95
| Llano | 66.68
| Loving | 4.86
| Lubbock | 43.32
| Lynn | 25.63
| Madison | 76.25
| Marion | 50.98
| Martin | 22.65
| Mason | 59.00
| Matagorda | 61.01
| Maverick | 35.76
| McCulloch | 50.16
| McLennan | 91.83
| McMullen | 46.22
| Medina | 68.06
| Menard | 37.72
| Midland | 40.95
| Milam | 80.50
| Mills | 63.86
| Mitchell | 25.38
| Montague | 69.53
| Montgomery | 290.50
| Moore | 28.86
| Morris | 58.11
| Motley | 21.56
| Nacogdoches | 73.68
| Navarro | 59.79
| Newton | 56.53
| Nolan | 28.05
| Nueces | 77.68
| Ochiltree | 31.36
| Oldham | 20.74
| Orange | 117.56
| Palo Pinto | 62.10
| Panola | 67.96
| Parker | 109.34
| Parmer | 28.63
| Pecos | 17.61
| Polk | 76.63
| Potter | 25.86
| Presidio | 19.93
| Rains | 88.55
| Randall | 40.26
| Reagan | 21.33
| Real | 48.89
| Red River | 49.04
| Reeves | 13.39
| Refugio | 31.81
| Roberts | 19.37
| Robertson | 73.53
| Rockwall | 140.90
| Runnels | 35.20
| Rusk | 65.18
| Sabine | 57.42
| San Augustine | 71.77
| San Jacinto | 104.35
| San Patricio | 67.45
| San Saba | 62.33
| Schleicher | 30.06
| Scurry | 26.62
| Shackelford | 32.83
| Shelby | 89.26
| Sherman | 36.42
| Smith | 133.57
| Somervell | 79.74
| Starr | 46.68
| Stephens | 44.51
| Sterling | 17.26
| Stonewall | 23.26
| Sutton | 32.32
| Swisher | 26.62
| Tarrant | 155.36
| Taylor | 52.25
| Terrell | 19.11
| Terry | 25.94
| Throckmorton | 35.84
| Titus | 64.14
| Tom Green | 40.01
| Travis | 159.22
| Trinity | 67.29
| Tyler | 86.84
| Upshur | 87.63
| Upton | 20.56
| Uvalde | 33.06
| Val Verde | 25.66
| Van Zandt | 93.48
| Victoria | 74.32
| Walker | 93.64
| Waller | 118.86
| Ward | 27.08
| Washington | 121.68
| Webb | 43.60
| Wharton | 73.86
| Wheeler | 27.72
| Wichita | 37.52
| Wilbarger | 32.55
| Willacy | 44.72
| Williamson | 94.73
| Wilson | 80.78
| Winkler | 28.53
| Wise | 99.16
| Wood | 85.57
| Yoakum | 23.90
| Young | 43.04
| Zapata | 35.94
| Zavala | 44.31
Utah | Beaver | 24.83
| Box Elder | 17.10
| Cache | 53.90
| Carbon | 13.81
| Daggett | 30.97
| Davis | 104.01
| Duchesne | 10.89
| Emery | 23.43
| Garfield | 34.88
| Grand | 9.19
| Iron | 21.80
| Juab | 14.80
| Kane | 20.23
| Millard | 22.79
| Morgan | 24.54
| Piute | 23.21
| Rich | 9.74
| Salt Lake | 107.99
| San Juan | 4.09
| Sanpete | 31.45
| Sevier | 47.76
| Summit | 36.42
| Tooele | 15.34
| Uintah | 7.03
| Utah | 97.41
| Wasatch | 61.98
| Washington | 41.68
| Wayne | 50.63
| Weber | 103.94
Vermont | Addison | 87.76
| Bennington | 125.41
| Caledonia | 83.97
| Chittenden | 168.07
| Essex | 51.47
| Franklin | 82.07
| Grand Isle | 113.26
| Lamoille | 91.73
| Orange | 96.86
| Orleans | 71.26
| Rutland | 72.65
| Washington | 112.70
| Windham | 131.86
| Windsor | 101.70
Virginia | Accomack | 113.26
| Albemarle | 262.50
| Alleghany | 111.85
| Amelia | 82.10
| Amherst | 123.50
| Appomattox | 82.10
| Arlington | 7,907.80
| Augusta | 185.73
| Bath | 97.57
| Bedford | 116.73
| Bland | 91.44
| Botetourt | 111.40
| Brunswick | 66.71
| Buchanan | 64.16
| Buckingham | 99.01
| Campbell | 81.89
| Caroline | 98.08
| Carroll | 85.42
| Charles City | 89.51
| Charlotte | 69.55
| Chesapeake City | 155.18
| Chesterfield | 244.56
| Clarke | 186.97
| Craig | 79.34
| Culpeper | 152.50
| Cumberland | 101.00
| Dickenson | 74.83
| Dinwiddie | 81.41
| Essex | 84.76
| Fairfax | 445.97
| Fauquier | 195.28
| Floyd | 100.89
| Fluvanna | 114.50
| Franklin | 95.58
| Frederick | 191.67
| Giles | 81.55
| Gloucester | 125.17
| Goochland | 144.09
| Grayson | 110.26
| Greene | 173.31
| Greensville | 71.97
| Halifax | 70.35
| Hanover | 133.61
| Henrico | 160.97
| Henry | 78.57
| Highland | 84.86
| Isle of Wight | 98.56
| James City | 268.36
| King and Queen | 89.61
| King George | 135.63
| King William | 107.37
| Lancaster | 112.43
| Lee | 70.21
| Loudoun | 260.48
| Louisa | 131.43
| Lunenburg | 70.69
| Madison | 157.86
| Mathews | 113.52
| Mecklenburg | 73.35
| Middlesex | 105.27
| Montgomery | 128.49
| Nelson | 134.62
| New Kent | 142.05
| Northampton | 121.67
| Northumberland | 79.77
| Nottoway | 84.23
| Orange | 167.10
| Page | 172.88
| Patrick | 73.64
| Pittsylvania | 75.23
| Powhatan | 140.62
| Prince Edward | 75.58
| Prince George | 101.02
| Prince William | 283.78
| Pulaski | 93.35
| Rappahannock | 182.86
| Richmond | 104.95
| Roanoke | 152.40
| Rockbridge | 130.51
| Rockingham | 234.69
| Russell | 76.69
| Scott | 69.98
| Shenandoah | 156.14
| Smyth | 77.75
| Southampton | 81.92
| Spotsylvania | 149.58
| Stafford | 347.73
| Suffolk | 109.52
| Surry | 89.67
| Sussex | 73.64
| Tazewell | 72.60
| Virginia Beach City | 256.02
| Warren | 200.30
| Washington | 133.69
| Westmoreland | 99.03
| Wise | 82.18
| Wythe | 104.05
| York | 320.96
Washington | Adams | 24.78
| Asotin | 22.96
| Benton | 67.65
| Chelan | 267.28
| Clallam | 221.62
| Clark | 155.27
| Columbia | 28.26
| Cowlitz | 155.42
| Douglas | 20.48
| Ferry | 8.99
| Franklin | 79.75
| Garfield | 27.30
| Grant | 59.38
| Grays Harbor | 41.57
| Island | 190.55
| Jefferson | 132.10
| King | 611.77
| Kitsap | 610.31
| Kittitas | 71.63
| Klickitat | 30.86
| Lewis | 104.15
| Lincoln | 21.21
| Mason | 148.60
| Okanogan | 20.95
| Pacific | 60.12
| Pend Oreille | 46.25
| Pierce | 372.98
| San Juan | 164.14
| Skagit | 175.82
| Skamania | 209.70
| Snohomish | 335.53
| Spokane | 64.70
| Stevens | 27.23
| Thurston | 206.19
| Wahkiakum | 83.40
| Walla Walla | 43.93
| Whatcom | 291.48
| Whitman | 30.30
| Yakima | 47.82
West Virginia | Barbour | 62.22
| Berkeley | 142.53
| Boone | 62.32
| Braxton | 54.73
| Brooke | 75.27
| Cabell | 94.97
| Calhoun | 48.58
| Clay | 45.88
| Doddridge | 56.73
| Fayette | 77.62
| Gilmer | 35.09
| Grant | 69.87
| Greenbrier | 69.44
| Hampshire | 80.04
| Hancock | 121.88
| Hardy | 85.61
| Harrison | 66.72
| Jackson | 58.91
| Jefferson | 156.49
| Kanawha | 103.41
| Lewis | 57.56
| Lincoln | 49.11
| Logan | 65.92
| Marion | 78.98
| Marshall | 68.93
| Mason | 64.75
| McDowell | 165.10
| Mercer | 67.01
| Mineral | 74.29
| Mingo | 29.74
| Monongalia | 120.71
| Monroe | 70.93
| Morgan | 139.46
| Nicholas | 69.68
| Ohio | 96.56
| Pendleton | 59.95
| Pleasants | 61.50
| Pocahontas | 49.96
| Preston | 73.20
| Putnam | 76.37
| Raleigh | 98.83
| Randolph | 64.62
| Ritchie | 48.10
| Roane | 51.43
| Summers | 60.54
| Taylor | 81.94
| Tucker | 76.29
| Tyler | 50.97
| Upshur | 70.48
| Wayne | 53.53
| Webster | 61.26
| Wetzel | 51.35
| Wirt | 48.18
| Wood | 88.81
| Wyoming | 89.18
Wisconsin | Adams | 118.07
| Ashland | 58.76
| Barron | 89.93
| Bayfield | 57.63
| Brown | 223.44
| Buffalo | 103.63
| Burnett | 71.62
| Calumet | 207.11
| Chippewa | 93.61
| Clark | 106.74
| Columbia | 153.29
| Crawford | 83.64
| Dane | 216.71
| Dodge | 153.71
| Door | 125.12
| Douglas | 51.58
| Dunn | 94.72
| Eau Claire | 120.12
| Florence | 66.47
| Fond du Lac | 191.35
| Forest | 63.81
| Grant | 124.07
| Green | 142.74
| Green Lake | 150.45
| Iowa | 127.94
| Iron | 89.45
| Jackson | 99.95
| Jefferson | 161.87
| Juneau | 97.42
| Kenosha | 199.24
| Kewaunee | 147.82
| La Crosse | 131.17
| Lafayette | 157.21
| Langlade | 86.06
| Lincoln | 85.25
| Manitowoc | 179.49
| Marathon | 124.96
| Marinette | 101.97
| Marquette | 109.84
| Menominee | 45.66
| Milwaukee | 234.83
| Monroe | 104.34
| Oconto | 109.58
| Oneida | 106.92
| Outagamie | 189.56
| Ozaukee | 172.39
| Pepin | 101.90
| Pierce | 121.52
| Polk | 93.03
| Portage | 107.84
| Price | 64.68
| Racine | 202.06
| Richland | 88.27
| Rock | 173.31
| Rusk | 65.36
| Sauk | 110.65
| Sawyer | 68.20
| Shawano | 122.62
| Sheboygan | 173.44
| St. Croix | 123.31
| Taylor | 77.20
| Trempealeau | 104.11
| Vernon | 102.16
| Vilas | 155.53
| Walworth | 182.36
| Washburn | 82.27
| Washington | 185.51
| Waukesha | 144.85
| Waupaca | 118.78
| Waushara | 111.29
| Winnebago | 183.36
| Wood | 87.09
Wyoming | Albany | 10.52
| Big Horn | 22.87
| Campbell | 8.14
| Carbon | 7.91
| Converse | 7.61
| Crook | 14.09
| Fremont | 18.33
| Goshen | 12.40
| Hot Springs | 8.94
| Johnson | 8.46
| Laramie | 12.20
| Lincoln | 26.31
| Natrona | 6.53
| Niobrara | 9.02
| Park | 21.50
| Platte | 12.63
| Sheridan | 17.61
| Sublette | 23.76
| Sweetwater | 4.26
| Teton | 58.27
| Uinta | 15.43
| Washakie | 16.82
| Weston | 9.63

[FR Doc. 2021-02570 Filed 2-9-21; 8:45 am]

BILLING CODE 6717-01-P